PEACE CORPS

22 CFR Part 302

Organization

AGENCY: Peace Corps.

ACTION: Final rule.

SUMMARY: The Peace Corps is removing from the Code of Federal Regulations its regulation on Peace Corps' organization. The regulation is outdated and unnecessary. Information on the Peace Corps' organization is already published and updated annually in the United States Government Manual, a special Federal Register publication.

DATES: The rule will be effective on April 15, 2004.

FOR FURTHER INFORMATION CONTACT: Tyler S. Posey, General Counsel, (202) 692-2150.

SUPPLEMENTARY INFORMATION: This final rule removes 22 CFR part 302 from the Code of Federal Regulations because it is outdated and unnecessary. Information on Peace Corps' organization is annually updated and published in the Federal Register's “United States Government Manual.” See FOIA Update, Summer 1992 (Office of Information and Privacy, Department of Justice).

Matters of Regulatory Procedure. Executive Order 12866. The Peace Corps has determined that this final rule does not constitute a “significant regulatory action” for the purposes of Executive Order 12866.

Regulatory Flexibility Act. Pursuant to section 605(b) of the Regulatory Flexibility Act, the Peace Corps certifies that this rule will not have a significant economic impact on a substantial number of small entities within the meaning of the Regulatory Flexibility Act (5 U.S.C. 601 et seq.). Accordingly, no regulatory flexibility analysis is required.

List of Subjects in 22 CFR Part 302

Organization and functions; government agencies.

PART 302—[REMOVED]

For the reasons set forth in the preamble, the Peace Corps amends title 22 of the CFR by removing part 302.

Dated: March 10, 2004.
Tyler S. Posey,
General Counsel.

[FR Doc. 04-5831 Filed 3-15-04; 8:45 am]

BILLING CODE 6015-01-M